DEPARTMENT OF JUSTICE

Notice of Lodging of Proposed Consent Decree Under the Clean Water Act

On March 22, 2023, the Department of Justice lodged a proposed consent decree with the United States District Court for the District of Massachusetts in United States and Commonwealth of Massachusetts v. City Holyoke, Massachusetts, Case No. 19-cv-10332-MGM (D. MA).

The United States previously filed a complaint under the Clean Water Act (“Act”) seeking injunctive relief and civil penalties for violations of the Act related to the City of Holyoke's (“the City”) discharge of pollutants from combined sewer overflows that caused or contributed to water quality violations in the Connecticut River and discharging pollutants from unpermitted components of the City's sewer collection system to the Connecticut River. The proposed consent decree provides for, among other things, the separation of portions of the City's collection system, the upgrade of certain elements of the combined sewer system, and the implementation of an illicit discharge detection and elimination program to address stormwater discharges. The Decree also provides for the payment of a $50,000 civil penalty.

The publication of this notice opens a period for public comment on the modification to the consent decree. Comments should be addressed to the Assistant Attorney General, Environment and Natural Resources Division, and should refer to United States and Commonwealth of Massachusetts v. City of Holyoke, Massachusetts, D.J. Ref. No. 90-5-1-1-11703. All comments must be submitted no later than thirty days days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed modification to the consent decree may be examined and downloaded at this Justice Department website: https://www.justice.gov/enrd/consent-decrees. We will provide a paper copy of the proposed modification upon written request and payment of reproduction costs. Please mail your request and payment to: Consent Decree Library, U.S. DOJ—ENRD, P.O. Box 7611, Washington, DC 20044-7611.

Please enclose a check or money order for $12.75 for a copy without appendices and $20.75 for a copy with appendices (25 cents per page reproduction cost) payable to the United States Treasury.

Henry S. Friedman,
Assistant Section Chief, Environmental Enforcement Section, Environment and Natural Resources Division.

[FR Doc. 2023-06463 Filed 3-28-23; 8:45 am]

BILLING CODE 4410-15-P